SURFACE TRANSPORTATION BOARD

[Docket No. FD 36163]

Elkhart & Western Railroad Co.—Acquisition and Operation Exemption—Line of CSX Transportation, Inc. Between Monon and Monticello, in White County, Ind.

Elkhart & Western Railroad Co. (EWR), a Class III rail carrier, has filed a verified notice of exemption under 49 CFR 1150.41 to acquire and operate 9.58 miles of rail line owned by CSX Transportation, Inc. (CSXT) between Monon, Ind., (Milepost 0QA-88.42) and Monticello, Ind., (Milepost 0QA-98.00) in White County, Ind. (the Line).

EWR states that it has reached agreement in principle with CSXT, the current owner and operator of the Line, providing for EWR to acquire, operate, maintain, and perform all common carrier service on the Line. EWR states that it will interchange with CSXT at Monon, Ind. EWR also states that the proposed acquisition and operation of the Line does not involve a provision or agreement that would limit future interchange with a third-party connecting carrier.

EWR certifies that the proposed transaction will not result in EWR becoming a Class II or Class I rail carrier and that the projected annual revenue of EWR will not exceed $5 million.

The transaction may be consummated on or after January 27, 2018, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than January 19, 2018 (at least seven days before the exemption becomes effective).

An original and 10 copies of all pleadings, referring to Docket No. 36163, must be filed with the Surface Transportation Board, 395 E Street SW, Washington, DC 20423-0001. In addition, one copy of each pleading must be served on Daniel A. LaKemper, Elkhart & Western Railroad Co., 1318 S. Johanson Road, Peoria, IL 61607.

According to EWR, this action is categorically excluded from environmental review under 49 CFR 1105.6(c) and from historic reporting requirements under 49 CFR 105.8(b).

Board decisions and notices are available on our website at WWW.STB.GOV.

Decided: January 8, 2018.
By the Board, Scott M. Zimmerman, Acting Director, Office of Proceedings.
Rena Laws-Byrum,
Clearance Clerk.

[FR Doc. 2018-00419 Filed 1-11-18; 8:45 am]

BILLING CODE 4915-01-P